POSTAL SERVICE

Board of Governors; Sunshine Act Meeting

DATE AND TIME: Thursday, November 12, 2020, at 10:15 a.m.; and Friday, November 13, 2020, at 9:00 a.m.

PLACE: Washington, DC, at U.S. Postal Service Headquarters, 475 L'Enfant Plaza SW, in the Benjamin Franklin Room.

STATUS: Thursday, November 12, 2020, at 10:15 a.m.—Closed; Friday, November 13, 2020, at 9:00 a.m.—Open.

MATTERS TO BE CONSIDERED:

Thursday, November 12, 2020, at 10:15 a.m. (Closed)

1. Strategic Issues.

2. Financial and Operational Matters.

3. Compensation and Personnel Matters.

4. Administrative Items.

Friday, November 13, 2020, at 9:00 a.m. (Open)

1. Remarks of the Chairman of the Board of Governors.

2. Remarks of the Postmaster General and CEO.

3. Approval of Minutes of Previous Meetings.

4. Committee Reports.

5. Financial Matters, including FY2020 10K and Financial Statements, and Annual Reports to Congress.

6. FY2021 Integrated Financial Plan and Financing Resolution.

7. FY2022 Congressional Reimbursement Request.

8. Quarterly Service Performance Report.

9. Bylaws.

10. Approval of Tentative Agenda for February Meetings.

11. Board Leadership.

CONTACT PERSON FOR MORE INFORMATION: Katherine Sigler, acting Secretary of the Board, U.S. Postal Service, 475 L'Enfant Plaza SW, Washington, DC 20260-1000. Telephone: (202) 268-4800.

Katherine Sigler,
Acting Secretary.

[FR Doc. 2020-24492 Filed 10-30-20; 4:15 pm]

BILLING CODE 7710-12-P